DEPARTMENT OF AGRICULTURE

Animal and Plant Health Inspection Service

[Docket No. APHIS-2014-0013]

Notice of Availability of an Evaluation of the African Horse Sickness Status of Saudi Arabia

AGENCY: Animal and Plant Health Inspection Service, USDA.

ACTION: Notice of availability.

SUMMARY: We are advising the public that we have determined that Saudi Arabia is free of African horse sickness (AHS). After reviewing the documentation submitted by Saudi Arabia in support of its request and considering other factors, the Administrator of the Animal and Plant Health Inspection Service has determined that AHS is not present in Saudi Arabia. We are making that determination, as well as an evaluation we have prepared in connection with this action, available for review and comment.

DATES: We will consider all comments that we receive on or before August 11, 2014.

ADDRESSES: You may submit comments by either of the following methods:

• Federal eRulemaking Portal: Go to http://www.regulations.gov/#!docketDetail;D=APHIS-2014-0013.

• Postal Mail/Commercial Delivery: Send your comment to Docket No. APHIS-2014-0013, Regulatory Analysis and Development, PPD, APHIS, Station 3A-03.8, 4700 River Road, Unit 118, Riverdale, MD 20737-1238.

Supporting documents and any comments we receive on this docket may be viewed at http://www.regulations.gov/#!docketDetail;D=APHIS-2014-0013 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Chip Wells, Senior Staff Veterinarian, Regionalization Evaluation Services, Sanitary Trade Issues Team, National Import Export Services, VS, APHIS, 4700 River Road, Unit 38, Riverdale, MD 20737-1231; (301) 851-3317.

SUPPLEMENTARY INFORMATION:

Background

The regulations in 9 CFR part 93 (referred to below as the regulations) prescribe the conditions for the importation into the United States of specified animals to prevent the introduction of various animal diseases, including African horse sickness (AHS). AHS is a fatal viral equine disease that is not known to exist in the United States.

Part 93, § 93.308 contains requirements governing the importation of horses, mules, zebras, and other equids from regions where AHS exists in order to prevent the introduction of AHS into the United States. Equids from countries where AHS exists are eligible for importation into the United States only after undergoing a 60-day quarantine.

The regulations in 9 CFR part 92, § 92.2, contain requirements for requesting the recognition of the animal health status of a region or for the approval of the export of a particular type of animal or animal product to the United States from a foreign region. If, after review and evaluation of the information submitted in support of the request the Animal and Plant Health Inspection Service (APHIS) believes the request can be safely granted, APHIS will make its evaluation available for public comment through a notice published in the Federal Register. Following the close of the comment period, APHIS will review all comments received and will make a final determination regarding the request that will be detailed in another notice published in the Federal Register.

In March 2009, the Government of Saudi Arabia submitted documentation to APHIS seeking recognition of the entire country of Saudi Arabia as a region free of AHS. In response to Saudi Arabia's request, APHIS evaluated the risk of introducing AHS into the United States via the importation of equids from Saudi Arabia in accordance with 9 CFR part 92. Based on this evaluation, APHIS concluded that AHS is not known to be present in Saudi Arabia and that the surveillance, prevention, and control measures implemented by Saudi Arabia are sufficient to minimize the likelihood of introducing AHS into the United States via imports of equids.

Therefore, in accordance with § 92.2(e), we are announcing the availability of our evaluation of the AHS status of Saudi Arabia for public review and comment. The evaluation may be viewed on the Regulations.gov Web site or in our reading room. (Instructions for accessing Regulations.gov and information on the location and hours of the reading room are provided under the heading ADDRESSES at the beginning of this notice.) The evaluation, as well as the information evaluated, may also be viewed at https://web01.aphis.usda.gov/db/mtaddr.nsf/WebView?OpenView.

After reviewing any comments we receive, we will announce our decision regarding the disease status of Saudi Arabia with respect to AHS and the import status of susceptible animals in a subsequent notice.

Authority: 7 U.S.C. 1622 and 8301-8317; 21 U.S.C. 136 and 136a; 31 U.S.C. 9701; 7 CFR 2.22, 2.80, and 371.4.

Done in Washington, DC, this 6th day of June 2014.
Kevin Shea,
Administrator, Animal and Plant Health Inspection Service.

[FR Doc. 2014-13786 Filed 6-11-14; 8:45 am]

BILLING CODE 3410-34-P